DEPARTMENT OF ENERGY

Federal Energy Regulatory Commission

[Project No. 2082-027]

PacifiCorp; Notice of Intent To Prepare an Environmental Impact Statement and Notice of Scoping Meetings and Site Visit and Soliciting Scoping Comments

April 16, 2004.

Take notice that the following hydroelectric application has been filed with Commission and is available for public inspection:

a. Type of Application: New major license.

b. Project No.: 2082-027.

c. Date filed: February 25, 2004.

d. Applicant: PacifiCorp.

e. Name of Project: Klamath Hydroelectric Project.

f. Location: On the Klamath River in Klamath County, Oregon and on the Klamath River and Fall Creek in Siskiyou County, California. The project currently includes 219 acres of Federal lands administered by the Bureau of Reclamation and the Bureau of Land Management.

g. Filed Pursuant to: Federal Power Act, 16 U.S.C. 791(a)-825(r).

h. Applicant Contact: Todd Olson, Project Manager, PacifiCorp, 825 NE. Multnomah, Suite 1500, Portland, Oregon 97232, (503) 813-6657.

i. FERC Contact: John Mudre, (202) 502-8902 or john.mudre@ferc.gov.

j. Deadline for Filing Scoping Comments: June 21, 2004.

All documents (original and eight copies) should be filed with: Magalie R. Salas, Secretary, Federal Energy Regulatory Commission, 888 First Street, NE., Washington, DC 20426.

The Commission's rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The proposed Project consists of four existing generating developments (J.C. Boyle, Copco No. 1, Copco No. 2. and Iron Gate) along the mainstem of the Upper Klamath River, between RM 228 and RM 254, and one generating development (Fall Creek) on Fall Creek, a tributary to the Klamath River at about RM 196. The existing Spring Creek diversion is proposed for inclusion with the Fall Creek Development. The currently licensed East Side, West Side, and Keno Developments are not included in the proposed project.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

n. Scoping Process: The Commission intends to prepare an Environmental Impact Statement (EIS) on the project in accordance with the National Environmental Policy Act. The EIS will consider both site-specific and cumulative environmental impacts and reasonable alternatives to the proposed action.

Scoping Meetings

FERC staff will hold four scoping meetings in the project area. We invite all interested agencies, non-governmental organizations, Native American tribes, and individuals to attend one or more of the meetings and to assist the staff in identifying the scope of environmental issues to be analyzed in the EIS. The times and locations of these meetings are as follows:

Evening Scoping Meetings

When: Tuesday, May 18, 2004, 7 p.m.-9 p.m.

Where: The Klamath County Fair Grounds, 3531 South Sixth Street, Klamath Falls, Oregon.

When: Thursday, May 20, 2004, 7 p.m.-9 p.m.

Where: The Boston Shaft Restaurant, 1801 Fort Jones Road, Yreka, California.

Morning Scoping Meetings

When: Thursday, May 20, 2004, 9 a.m. to noon.

Where: The Hilton Garden Inn, 3609 Bechelli Lane, Redding, California.

When: Friday, May 21, 2004, 9 a.m. to noon.

Where: The Ashland Springs Hotel, 212 East Main Street, Ashland, Oregon.

Copies of the Scoping Document (SD1) outlining the subject areas to be addressed in the EIS are being distributed to the parties on the Commission's mailing list under separate cover. Copies of the SD1 will be available at the scoping meeting or may be viewed on the Web at http://www.ferc.gov using the “eLibrary” link (see item m above).

Site Visit

We also will visit the project facilities on May 18 (Oregon facilities) and 19 (California facilities), meeting at the north end of the Link River Trail, off Lake Shore Drive, Klamath Falls, Oregon on Tuesday, May 18 at 9 a.m., and at the Iron Gate Fish Hatchery parking lot, off Copco Road, on Wednesday, May 19 at 9 a.m. Participants on the site visits will need to provide their own transportation and bring their own lunch.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EIS.

Magalie R. Salas,
Secretary.

[FR Doc. E4-915 Filed 4-23-04; 8:45 am]

BILLING CODE 6717-01-P